DEPARTMENT OF COMMERCE

Foreign-Trade Zones Board

[B-74-2012]

Foreign-Trade Zone 176—Rockford, IL, Authorization of Production Activity, AndersonBrecon Inc. (Medical Device Kitting), Rockford, IL

On October 12, 2012, AndersonBrecon Inc. submitted a notification of proposed production activity to the Foreign-Trade Zones (FTZ) Board for its facility within FTZ 176—Site 1, in Rockford, Illinois.

The notification was processed in accordance with the regulations of the FTZ Board (15 CFR part 400), including notice in the Federal Register inviting public comment (77 FR 64311, 10-19-2012). The FTZ Board has determined that no further review of the activity is warranted at this time. The production activity described in the notification is authorized, subject to the FTZ Act and the Board's regulations, including Section 400.14.

Dated: February 11, 2013.
Andrew McGilvray,
Executive Secretary.

[FR Doc. 2013-03744 Filed 2-15-13; 8:45 am]

BILLING CODE P